DEPARTMENT OF THE INTERIOR

Bureau of Indian Affairs

Indian Gaming

AGENCY: Bureau of Indian Affairs, Interior.

ACTION: Notice of amendment to Approved Tribal-State Compact.

SUMMARY: This publishes notice of an Amendment to a Compact between the Nottawaseppi Huron Band of Pottawatomi Indians and the State of Michigan providing for the Conduct of Tribal Class III Gaming by the Nottawaseppi Huron Band of Pottawatomi Indians taking effect.

DATES: Effective Date: October 8, 2009.

FOR FURTHER INFORMATION CONTACT: Paula L. Hart, Acting Director, Office of Indian Gaming, Office of the Deputy Assistant Secretary—Policy and Economic Development, Washington, DC 20240, (202) 219-4066.

SUPPLEMENTARY INFORMATION: Under section 11 of the Indian Gaming Regulatory Act of 1988 (IGRA), Public Law 100-497, 25 U.S.C. 2710, the Secretary of the Interior shall publish in the Federal Register notice of approved Tribal-State compacts for the purpose of engaging in Class III gaming activities on Indian lands. The amendment changes the regulatory payment amount to a minimum of $50,000 or .05% of the Tribe's annual Class III net win, whichever is greater. This amendment also modifies the Tribe's revenue sharing payments conditioned on the Tribe's net win falling below certain levels. The amendment permits downward adjustments of the Tribe's revenue sharing payments.

Dated: September 30, 2009.
Larry Echo Hawk,
Assistant Secretary—Indian Affairs.

[FR Doc. E9-24301 Filed 10-7-09; 8:45 am]

BILLING CODE 4310-4N-P